NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On February 4, 2019, the National Science Foundation published a notice in the Federal Register of permit applications received. The permits were issued on March 6, 2019 and March 19, 2019, respectively, to:

1. Daniel P. Zitterbart, Permit No. 2019-018

2. Robert Sanders, Permit No. 2019-017

Erika N. Davis,
Program Specialist, Office of Polar Programs.

[FR Doc. 2019-05558 Filed 3-22-19; 8:45 am]

BILLING CODE 7555-01-P